DEPARTMENT OF COMMERCE

International Trade Administration

[C-570-923]

Raw Flexible Magnets From the People's Republic of China: Initiation of Countervailing Duty New Shipper Review

AGENCY: Import Administration, International Trade Administration, Department of Commerce.

EFFECTIVE DATE: April 30, 2010.

SUMMARY: The Department of Commerce (the Department) has determined that a request for a new shipper review of the countervailing duty (CVD) order on raw flexible magnets (RFM) from the People's Republic of China (the PRC) meets the statutory and regulatory requirements for initiation. The period of review (POR) for the new shipper review is January 1, 2009, through February 28, 2010.

FOR FURTHER INFORMATION CONTACT: Kristen Johnson, AD/CVD Operations, Office 3, Import Administration, International Trade Administration, U.S. Department of Commerce, 14th Street and Constitution Avenue, NW, Washington, DC 20230, telephone: (202) 482-4793.

SUPPLEMENTARY INFORMATION:

Background

The CVD order on RFM from the PRC was published on September 17, 2008. See Raw Flexible Magnets from the People's Republic of China: Countervailing Duty Order, 73 FR 53849 (September 17, 2008). On March 29, 2010, pursuant to section 751(a)(2)(B)(i) of the Tariff Act of 1930, as amended (the Act), and 19 CFR 351.214(c), the Department received a timely request for new shipper review from Jingzhou Meihou Flexible Magnet Company, Ltd. (Jingzhou Meihou). The company's business proprietary version, however, was not properly bracketed. The Department, therefore, rejected that submission and requested that Jingzhou Meihou resubmit the request, which would be considered timely for consideration of a new shipper review. See Memorandum to the File from Kristen Johnson, Trade Analyst, AD/CVD Operations, Office 3, regarding “Jingzhou Meihou's New Shipper Review Submission Rejected,” dated April 1, 2010.¹ On April 5, 2010, Jingzhou Meihou resubmitted its new shipper review request. Jingzhou Meihou certified that it is both the exporter and producer of the subject merchandise upon which its request for a new shipper review is based. On April 23, 2010, Magnum Magnetics Corporation (Petitioner) submitted comments regarding the request for new shipper review by Jingzhou Meihou. The Department is currently evaluating the comments submitted by Petitioner and will address the comments during the new shipper review.

¹ This public document and all other public Departmental documents are available on the public record located within the Central Records Unit (CRU), Room 1117 of the Commerce building.

Pursuant to section 751(a)(2)(B)(i)(I) of the Act and 19 CFR 351.214(b)(2)(i), Jingzhou Meihou certified that it did not export RFM to the United States during the period of investigation (POI).² Further, pursuant to section 751(a)(2)(B)(i)(II) of the Act and 19 CFR 351.214(b)(2)(iii)(A), Jingzhou Meihou certified that, since the initiation of the investigation, it has never been affiliated with any PRC exporter or producer who exported RFM to the United States during the POI, including those not individually examined during the investigation.

² The CVD POI was January 1, 2006, through December 31, 2006.

In addition to the certifications described above, pursuant to 19 CFR 351.214(b)(2)(iv), Jingzhou Meihou submitted documentation establishing the following: (1) the date on which Jingzhou Meihou first shipped RFM for export to the United States and the date on which the RFM were first entered, or withdrawn from warehouse, for consumption; (2) the volume of its first shipment;³ and (3) the date of its first sale to an unaffiliated customer in the United States. Jingzhou Meihou also certified that, in accordance with 19 CFR 351.214(b)(2)(v), it has informed the Government of the People's Republic of China that it will be required to provide a full response to the Department's questionnaire.

³ This shipment constitutes the only shipment that Jingzhou Meihou has made to the United States.

The Department conducted a U.S. Customs and Border Protection (CBP) database query and confirmed that the shipment of subject merchandise from Jingzhou Meihou entered the United States for consumption and liquidation of such entry was properly suspended for countervailing duties. After examining the CBP data, the Department requested additional information from Jingzhou Meihou. See letter to Jingzhou Meihou regarding, “Request for Antidumping and Countervailing Duty New Shipper Review of Raw Flexible Magnets from the People's Republic of China,” dated April 8, 2010. On April 12, 2010, Jingzhou Meihou submitted its response to the Department's request for additional information. See Jingzhou Meihou's letter regarding, “Request for More Information regarding Initiation of Antidumping and Countervailing Duty New Shipper Reviews of Raw Flexible Magnets from the People's Republic of China,” dated April 12, 2010.

Initiation of New Shipper Review

Pursuant to section 751(a)(2)(B) of the Act and 19 CFR 351.214, the Department finds that Jingzhou Meihou meets the threshold requirements for initiation of a new shipper review of its shipment of RFM from the PRC. See Memorandum to the File through Melissa G. Skinner, Director, AD/CVD Operations, Office 3, from Kristen Johnson, Trade Analyst, AD/CVD Operations, Office 3, regarding “Initiation of CVD New Shipper Review of Jingzhou Meihou: Raw Flexible Magnets from the People's Republic of China,” dated concurrently with this notice.

The Department's regulations state, in 19 CFR 351.214(g)(2), that the POR for a CVD new shipper review will be the same period as that specified in 19 CFR 351.213.(e)(2), which states that the Department normally will cover entries of subject merchandise during the most recently completed calendar year. However, the Department noted in the Preamble to its Final Regulations that the regulations continue to “provide the Department with sufficient flexibility to resolve any problems that may arise by modifying the standard review period.” See Antidumping Duties; Countervailing Duties; Final Rule, 62 FR 27320 (May 19, 1997) (Preamble). The Department's regulations permit a party to file a request for a new shipper review during the six month period preceding the anniversary month and the six month period preceding the semiannual anniversary month. If a calendar year standard is utilized, as noted in the Department's regulations, Jingzhou Meihou's entry would not be covered in the review. Therefore, the review period for this new shipper review will be January 1, 2009, through February 28, 2010.

Pursuant to 19 CFR 351.221(c)(1)(i), the Department will publish the notice of initiation of a new shipper review no later than the last day of the month following the anniversary month or semiannual anniversary month of the order. Thus, the deadline for publishing this notice of initiation is April 30, 2010.

The Department intends to issue the preliminary results of this review no later than 180 days after the date of initiation, and the final results of this review no later than 90 days after the date on which the preliminary results are issued. See 19 CFR 351.214(i).

We will instruct CBP to allow, at the option of the importer, the posting, until the completion of the review, of a bond or security in lieu of a cash deposit for certain entries of the subject merchandise from Jingzhou Meihou in accordance with section 751(a)(2)(B)(iii) of the Act and 19 CFR 351.214(e). Because Jingzhou Meihou certified that it both produces and exports the subject merchandise, the sales of which form the basis for its new shipper review request, we will instruct CBP to permit the use of a bond only for entries of subject merchandise which the respondent both produced and exported.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: April 22, 2010.
Edward C. Yang,
Acting Deputy Assistant Secretary for Antidumping and Countervailing Duty Operations.

[FR Doc. 2010-10170 Filed 4-29-10; 8:45 am]

BILLING CODE 3510-DS-S